DEPARTMENT OF HEALTH AND HUMAN SERVICES

National Institutes of Health

Notice of Availability of the Office of Dietary Supplements Strategic Plan for 2017-2021

SUMMARY: The Office of Dietary Supplements (ODS) at the National Institutes of Health (NIH) has completed a strategic planning process resulting in the development of the ODS Strategic Plan for 2017-2021, entitled Strengthening Knowledge and Understanding of Dietary Supplements. The strategic plan is available in pdf format on the ODS Web site: https://ods.od.nih.gov/About/StrategicPlan2017-2021.aspx

FOR FURTHER INFORMATION CONTACT: Office of Dietary Supplements, National Institutes of Health, 6100 Executive Boulevard, Room 3B01, Bethesda, MD 20892-7517, Email: ODS@nih.gov.

SUPPLEMENTARY INFORMATION: The ODS Strategic Plan for 2017-2021 presents a refreshed set of goals, strategies, and activities that ODS plans for the next 5 years. It also provides a review of ODS activities and accomplishments between 2010 and 2016, and includes examples of ODS collaborative projects and programs and summaries of its extramural investments. It was shaped by input, comments, and advice from ODS's stakeholder communities throughout the federal government, academia, the dietary supplement industry, consumer advocacy and education groups, and interested consumers.

Background

The mission of ODS is to support, conduct, and coordinate scientific research and provide intellectual leadership for the purpose of strengthening the knowledge and understanding of dietary supplements to foster an enhanced quality of life and health for the U.S. population. ODS was established in the Office of the Director, NIH, in 1995 as a major provision of the Dietary Supplement Health and Education Act of 1994.

Dated: January 3, 2017.
Lawrence A. Tabak,
Deputy Director, National Institutes of Health.

[FR Doc. 2017-00316 Filed 1-9-17; 8:45 am]

BILLING CODE 4140-01-P